DEPARTMENT OF HEALTH AND HUMAN SERVICES

National Institutes of Health

National Cancer Institute; Amended Notice of Meeting

Notice is hereby given of a change in the meeting of the National Cancer Institute Special Emphasis Panel, June 14, 2012, 8:00 a.m. to June 14, 2012, 6:00 p.m., Westin Alexandria, 400 Courthouse Square, Alexandria, VA 22314 which was published in the Federal Register on March 29, 2012, 77 FR 19024.

This notice is being amended to change the location to “The Residence Inn Old Town Alexandria, 1456 Duke Street, Alexandria, VA 22314.” The meeting is closed to the public.

Dated: May 9, 2012.
Jennifer S. Spaeth,
Director, Office of Federal Advisory Committee Policy.

[FR Doc. 2012-11750 Filed 5-14-12; 8:45 am]

BILLING CODE 4140-01-P